ENVIRONMENTAL PROTECTION AGENCY

[EPA-R05-RCRA-2008-0568; FRL-8716-9]

Pre-Renovation Education Program; State of Michigan Authorization Application

AGENCY: Environmental Protection Agency (EPA).

ACTION: Notice; request for comments and opportunity for public hearing.

SUMMARY: On June 20, 2008, the State of Michigan submitted an application under section 404 of the Toxic Substances Control Act (TSCA) requesting authorization to administer and enforce requirements for a pre-renovation education program in accordance with section 406(b) of TSCA. This program ensures that owners and occupants of target housing are provided information concerning potential hazards of lead-based paint exposure before certain renovations are begun. This notice announces receipt of the State of Michigan's application and program self-certification, EPA's determination that the Michigan application is complete, and provides a 45-day public comment period and opportunity to request a public hearing. Michigan has self-certified that its pre-renovation education program is at least as protective of human health and the environment as the federal program complying with the requirements for self-certification. Therefore, pursuant to section 404 of TSCA the Michigan pre-renovation education program is deemed authorized until such time as the Agency disapproves the program application or withdraws the program authorization. If EPA subsequently finds that the program does not meet all the requirements for an authorized State program, EPA will work with the State to correct any deficiencies in order to approve the program. If the deficiencies are not corrected a notice of disapproval will be issued in the Federal Register and a Federal program will be implemented in the State.

DATES: Comments, identified by docket control number EPA-R05-RCRA-2008-0568, must be received on or before November 3, 2008. In addition, a public hearing request must be submitted on or before October 2, 2008.

ADDRESSES: Comments, and requests for a public hearing may also be submitted by mail, electronically, or in person. Please follow the detailed instructions for each method as provided in section I of the SUPPLEMENTARY INFORMATION. To ensure proper receipt by EPA, it is imperative that you identify docket control number EPA-R05-RCRA-2008-0568 in the subject line on the first page of your response.

FOR FURTHER INFORMATION CONTACT: Ludmilla Koralewska, Technical Contact, LCD, Toxics Section, United States Environmental Protection Agency, 77 W. Jackson, Chicago, IL 60604, telephone number: (312) 886-3577; e-mail address: koralewska.ludmilla@epa.gov.

SUPPLEMENTARY INFORMATION:

I. General Information

A. Does This Action Apply to Me?

This action is directed to the public in general. This action may, however, be of interest to firms and individuals engaged in renovation and remodeling activities of pre-1978 housing in the State of Michigan. Since other entities may also be interested, the Agency has not attempted to describe all the specific entities that may be affected by this action. If you have any questions regarding the applicability of this action to a particular entity, consult the person listed under FOR FURTHER INFORMATION CONTACT.

B. How Can I Get Additional Information, Including Copies of This Document or Other Related Documents?

You may obtain electronic copies of this document, and certain other related documents that might be available electronically, from the EPA Internet Home Page at http://www.epa.gov/. To access this document select “Laws and Regulations,” “Regulations and Proposed Rules,” and then look up the entry for this document under the “Federal Register—Environmental Documents.” You can also go directly to the Federal Register listings at http://www.epa.gov/fedrgstr/.

2. In person: You may read this document by visiting the Michigan Department of Community Health Library, Capitol View Building 201 Townsend St., 2nd Floor, Lansing, MI 48913, contact phone number (517) 335-8466. Also, EPA has established an official record for this action under docket control number EPA-R05-RCRA-2008-0568. The official record consists of the documents specifically referenced in this action, this notice, the State of Michigan 406(b) program authorization application, any public comments received during an applicable comment period, and other information related to this action, including any information claimed as Confidential Business information (CBI).

C. How and to Whom Do I Submit Comments?

You may submit comments through the mail, in person, or electronically. To ensure proper receipt by EPA, it is imperative that you identify docket control number EPA-R05-RCRA-2008-0568 in the subject line on the first page of your response.

1. By mail: Submit your comments and hearing requests to: Ludmilla Koralewska, Technical Contact, LCD, Toxics Section, U.S. Environmental Protection Agency, 77 W. Jackson, Chicago, IL 60604.

2. By person or courier: Deliver your comments and hearing requests to: U.S. EPA Region 5, LCD, Toxics Section, 77 W. Jackson, Chicago, IL 60604. The Regional office is open from 8 a.m. to 5 p.m., Monday through Friday, excluding legal holidays. The phone for the regional office is (312) 886-6003.

3. Electronically: You may submit your comments and hearing requests electronically by e-mail to: koralewska.ludmilla@epa.gov or mail your computer disk to the address identified above. Do not submit any information electronically that you consider to be Confidential Business Information (CBI). Electronic comments must be submitted as an ASCII file avoiding the use of special characters and any form of encryption. Comments and data will also be accepted on standard disks in Microsoft Word or ASCII file format.

D. How Should I Handle CBI Information That I Want To Submit To the Agency?

Do not submit any information that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person identified under FOR FURTHER INFORMATION CONTACT.

E. What Should I Consider as I Prepare My Comments for EPA?

You may find the following suggestions helpful for preparing your comments.

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, identify the docket control number assigned to this action in the subject line on the first page of your response. You may also provide the name, date, and Federal Register citation.

II. Background

A. What Action Is the Agency Taking?

On June 20, 2008, the State of Michigan submitted an application under section 404 of the Toxic Substances Control Act (TSCA) requesting authorization to administer and enforce requirements for pre-renovation education in accordance with section 406(b) of TSCA. This program ensures that owners and occupants of target housing are provided information concerning potential hazards of lead-based paint exposure before certain renovations are begun. Michigan has self-certified that its pre-renovation education program is at least as protective as the federal program. Therefore, pursuant to section 404 of TSCA, and 40 CFR 745.324(d)(1) and (e)(2) the Michigan pre-renovation education program is deemed authorized as of the date of submission and until such time as the Agency disapproves the program application or withdraws program authorization. If EPA subsequently finds that the program does not meet all the requirements for an authorized State program, EPA intends to work with the State of Michigan to correct any program deficiencies in order to approve the program. If the deficiencies are not corrected, a notice of disapproval will be issued in the Federal Register and a Federal program will be implemented in the State. Pursuant to section 404(b) of TSCA [15 U.S.C. 2684(b)], EPA provides notice and an opportunity for a public hearing on a State program application before approving the program. Therefore, by this notice EPA is soliciting public comment on whether the State of Michigan application meets the requirements for EPA approval. This notice also provides an opportunity to request a public hearing on the application. If a hearing is required and granted, EPA will issue a Federal Register notice announcing the date, time and place of the hearing and EPA's final decision on the application will also then be published in the Federal Register.

B. What Is the Agency's Authority for Taking This Action?

On October 28, 1992, the Housing and Community Development Act of 1992, Public Law 102-550, became law. Title X of that statute was the Residential Lead-Based Paint Hazard Reduction Act of 1992. That Act amended TSCA (15 U.S.C. 2601 et seq.) by adding Title IV (15 U.S.C. 2681-2692), entitled Lead Exposure Reduction. In the Federal Register of June 1, 1998, (63 FR 29908), EPA promulgated final TSCA section 406(b) regulations governing pre-renovation education requirements in target housing. This program ensures that owners and occupants of target housing are provided information concerning potential hazards of lead-based paint exposure before certain renovations are begun on that housing. In addition to providing general information on the health hazards associated with exposure to lead, the lead hazard information pamphlet advises owners and occupants to take appropriate precautions to avoid exposure to lead-contaminated dust and debris that are sometimes generated during renovations. EPA believes that distribution of the pamphlet will help to reduce the exposures that cause serious lead poisonings, especially in children under age 6, who are particularly susceptible to the hazards of lead. Under section 404 of TSCA (15 U.S.C. 2684), a State may seek authorization from EPA to administer and enforce its own pre-renovation education program in lieu of the Federal program. The regulations governing the authorization of a State program under both sections 402 and 406 of TSCA are codified at 40 CFR part 745, subpart Q. States that choose to apply for program authorization must submit a complete application to the appropriate regional EPA office for review. Those applications will be reviewed by EPA within 180 days of receipt of the complete application. To receive EPA approval, a State must demonstrate that its program is at least as protective of human health and the environment as the Federal program, and provides for adequate enforcement section 404(b) of TSCA [15 U.S.C. 2884(b)]. EPA's regulations 40 CFR part 745, subpart Q provide the detailed requirements a State program must meet in order to obtain EPA approval. A State may choose to certify that its own pre-renovation education program meets the requirements for EPA approval, by submitting a letter signed by the Governor or Attorney General stating that the program is at least as protective of human health and the environment as the federal program and provides for adequate enforcement. Upon submission of such certification letter the program is deemed authorized pursuant to 40 CFR 745.3249(d)(1) and (e)(2) and [15 U.S.C. 2864(b)]. This authorization becomes ineffective, however, if EPA disapproves the application or withdraws the program authorization.

III. State Program Description Summary

The following is an excerption from the State's proposed Pre-Renovation Education program summary. To review the complete text see:

B. How Can I Get Additional Information, Including Copies of This Document or Other Related Documents?

Michigan Public Health Code, Act No. 368 of the Public Acts of 1978 assigns to the Michigan Department of Community Health (MDCH), among other responsibilities, the continuous and diligent endeavor to prevent disease, prolong life, and promote the public health through organized programs, including prevention and control of environmental health hazards; prevention and control of diseases; prevention and control of health problems of particularly vulnerable population groups. The department may exercise authority and promulgate rules to properly safeguard the public health; to prevent the spread of diseases and the existence of sources of contamination; and to implement and carry out the powers of and duties vested by law in the department. In response to the federal Pre-Renovation Education (PRE) Program information disclosure requirements, the State of Michigan in the Lead Hazard Control Rules states in R 325.99408(6)(a) that any person disturbing painted surfaces by performing renovation for compensation in target housing or child-occupied facilities must provide the owner of the dwelling or facility with the EPA's pamphlet number EPA 747-K-99-001, entitled “Protect Your Family From Lead in Your Home,” or a true reproduction of the EPA pamphlet, or an equivalent pamphlet approved by the department. If the owner does not occupy the dwelling unit, then the person performing renovation shall also provide an adult occupant of the housing unit with the EPA pamphlet. Exceptions are: Emergency repairs, lead abatement projects, minor repairs, and work in zero-bedroom dwellings and housing for the elderly. Authority for enforcement actions is established for the Michigan Department of Community Health under sections 5466(1), 5473(a)(1), 5475(2), 5476(2) and 5477 of the Lead Abatement Act, being sections 333.5466, 333.5473(a), 333.5475, and 333.5476 of the Michigan Compiled Laws, and Rule 325.99104.

IV. Federal Overfilling

Section 404(b) of TSCA makes it unlawful for any person to violate, or fail or refuse to comply with, any requirement of an approved State program. Therefore, EPA reserves the right to exercise its enforcement authority under TSCA against a violation of, or a failure or refusal to comply with, any requirement of an authorized State program.

Dated: August 27, 2008.
Lynn Buhl,
Regional Administrator, Region 5.

[FR Doc. E8-21711 Filed 9-16-08; 8:45 am]

BILLING CODE 6560-50-P